DEPARTMENT OF AGRICULTURE

Federal Crop Insurance Corporation

[Docket No. FCIC-17-0001]

Notice of Request for Renewal and Revision of the Currently Approved Information Collection

AGENCY: Federal Crop Insurance Corporation, USDA.

ACTION: Renewal and revision of the currently approved information collection.

SUMMARY: In accordance with the Paperwork Reduction Act of 1995 this notice announces the Federal Crop Insurance Corporation's (FCIC) intention to request an extension to a currently approved information collection for the submission of policies, provisions of policies, rates of premium, and non-reinsured supplemental policies under section 508(h) of the Federal Crop Insurance Act. This notice announces a public comment period on the information collection requests (ICRs) associated with the submission of policies, provisions of policies, rates of premium, and non-reinsured supplemental policies under section 508(h) of the Federal Crop Insurance Act.

DATES: Written comments on this notice will be accepted until close of business December 4, 2017.

ADDRESSES: FCIC prefers that comments be submitted electronically through the Federal eRulemaking Portal. You may submit comments, identified by Docket ID No. FCIC-17-0001, by any of the following methods:

• Federal eRulemaking Portal: http://www.regulations.gov. Follow the instructions for submitting comments.

• Mail: Director, Product Administration and Standards Division, Risk Management Agency, United States Department of Agriculture, P.O. Box 419205, Kansas City, MO 64133-6205.

All comments received, including those received by mail, will be posted without change to http://www.regulations.gov, including any personal information provided, and can be accessed by the public. All comments must include the agency name and docket number or Regulatory Information Number (RIN) for this notice. For detailed instructions on submitting comments and additional information, see http://www.regulations.gov. If you are submitting comments electronically through the Federal eRulemaking Portal and want to attach a document, we ask that it be in a text-based format. If you want to attach a document that is a scanned Adobe PDF file, it must be scanned as text and not as an image, thus allowing FCIC to search and copy certain portions of your submissions. For questions regarding attaching a document that is a scanned Adobe PDF file, please contact the RMA Web Content Team at (816) 823-4694 or by email at rmaweb.content@rma.usda.gov.

Privacy Act: Anyone is able to search the electronic form of all comments received for any dockets by the name of the individual submitting the comment (or signing the comment, if submitted on behalf of an association, business, labor union, etc.). You may review the complete User Notice and Privacy Notice for Regulations.gov at http://www.regulations.gov/#!privacyNotice.

FOR FURTHER INFORMATION CONTACT: Tim Hoffmann, Director, Product Administration and Standards Division, Risk Management Agency, United States Department of Agriculture, Beacon Facility, Stop 0812, Room 421, P.O. Box 419205, Kansas City, MO 64141-6205, telephone (816) 926-7730.

SUPPLEMENTARY INFORMATION:

Title: General Administrative Regulations; Subpart V—Submission of Policies, Provisions of Policies, Rates of Premium, and Non-Reinsured Supplemental Policies.

OMB Number: 0563-0064.

Expiration Date of Approval: December 31, 2017.

Type of Request: Extension of a currently approved information collection.

Abstract: FCIC is proposing to renew the currently approved information collection, OMB Number 0563-0064. It is currently up for renewal and extension for three years. Subpart V establishes guidelines for the submission of policies or other materials to the FCIC Board of Directors (Board) and identifies the required contents of a submission: the timing, review, and confidentiality requirements; reimbursement of research and development costs, maintenance costs, and user fees; and guidelines for non-reinsured supplemental policies. This data is used to administer the Federal crop insurance program in accordance with the Federal Crop Insurance Act, as amended.

The submission's per-response time was adjusted because FCIC reviewed each line item and consulted with Risk Management Agency subject matter experts. In this review, FCIC determined the total number of product submissions were overestimated, therefore, lowering the amount of product submissions for the information collection.

FCIC is requesting the Office of Management and Budget (OMB) to extend the approval of this information collection for an additional 3 years.

The purpose of this notice is to solicit comments from the public concerning this information collection. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 343 hours per response.

Respondents/affected entities: Parties affected by the information collection requirements included in this Notice is a person (including an approved insurance provider, a college or university, a cooperative or trade association, or any other person) who prepares a submission, proposes to the Board other crop insurance policies, provisions of policies, or rates of premium, or submits to RMA a non-reinsured supplemental policy.

Estimated annual number of respondents: 195.

Estimated annual number of responses per respondent: .67.

Estimated annual number of responses: 131.

Estimated total annual burden hours on respondents: 44,947.

All responses to this notice will be summarized and included in the request for OMB approval. All comments will also become a matter of public record.

Signed in Washington, DC, on August 16, 2017.
Heather Manzano,
Acting Manager, Federal Crop Insurance Corporation.

[FR Doc. 2017-20975 Filed 10-3-17; 8:45 am]

BILLING CODE 3410-08-P